DEPARTMENT OF THE INTERIOR

Bureau of Land Management

[PO #4820000251]

Notice of Termination of the Environmental Impact Statement for the Twin Metals Project in the Superior National Forest, Lake and St. Louis Counties, Minnesota

AGENCY: Bureau of Land Management, Interior.

ACTION: Notice of termination.

SUMMARY: By this notice, the Bureau of Land Management (BLM), Northeastern States District, located in Milwaukee, Wisconsin, is announcing the termination of the Twin Metals Project Environmental Impact Statement (EIS).

DATES: This termination takes effect immediately.

FOR FURTHER INFORMATION CONTACT: Kurt Wadzinski, NSDO Planning and Environmental Coordinator, at 414-297-4408 or by email to kwadzins@blm.gov. Persons who use a telecommunications device for the deaf (TDD) may call the Federal Relay Service (FRS) at 1-800-877-8339 to contact during normal business hours. The FRS is available 24 hours a day, 7 days a week, to leave a message or question. You will receive a reply during normal business hours.

SUPPLEMENTARY INFORMATION: Pursuant to the National Environmental Policy Act of 1969 (NEPA) and Council on Environmental Quality (CEQ) NEPA regulations, the BLM published its Notice of Intent (NOI) to prepare an EIS for the Twin Metals Project in the Federal Register on June 30, 2020 (85 FR 39206). The EIS would have analyzed the potential impacts of issuing a proposed new preference right lease (MNES 57965) and approving a mine plan of operations for that lease and an existing lease (MNES 1352) held by Twin Metals Minnesota (Twin Metals) in the Superior National Forest in Lake and St. Louis counties, Minnesota.

In October 2021, the USDA Forest Service submitted an application to withdraw the lands in question from disposition under the United States mineral and geothermal leasing laws. The BLM published a notice of its receipt of that application in the Federal Register (86 FR 58299), which segregated the lands from the operation of the mineral and geothermal leasing laws, and the BLM subsequently rejected the preference right lease application submitted by Twin Metals in accordance with 43 CFR 2310.2(d).

In January 2022, the Department of the Interior cancelled two hardrock mineral leases held by Twin Metals, including lease MNES 1352, because the leases were improperly renewed. Because Twin Metals did not have an underlying land use authorization, the BLM subsequently rejected the mine plan of operations. On January 31, 2023, the Secretary of the Interior issued Public Land Order 7917 (88 FR 6308), which withdrew approximately 225,504 acres of National Forest System lands in Cook, Lake, and Saint Louis counties, Minnesota, from disposition under the United States mineral and geothermal leasing laws for a period of 20 years, subject to valid existing rights. As a result, new mineral leasing is prohibited for 20 years from the date of the withdrawal.

Based on BLM environmental policy, the bureau must announce in the Federal Register when it does not complete previously initiated NEPA actions.

(Authority: 40 CFR 1501.9)

Mitchell Leverette,
Eastern States State Director.

[FR Doc. 2024-31215 Filed 12-27-24; 8:45 am]

BILLING CODE 4331-18-P